DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Public Health Law 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Assessment of the State Maternal and Child Health Comprehensive Systems Grant (SECCS) Program (NEW)

HRSA's Maternal and Child Health Bureau (MCHB) is conducting an assessment of MCHB's State Maternal and Child Health Comprehensive Systems Grant (SECCS) Program. The purpose of the SECCS Program is to support state and local communities in their efforts to build comprehensive and coordinated early childhood service systems and to increase the leadership and participation of State MCH Title V programs in multi-agency early childhood systems development initiatives.

The SECCS funding is offered to states, jurisdictions, or Territory Title V agencies in two stages: Planning and Implementation. This assessment will only focus on Implementation Grantees awarded in 2005 (approximately 18 grantees) and 2006 (approximately 42 grantees). The purpose of the assessment is to determine: (1) Progress of implementation grantees in meeting the goals and objectives set forth in their plans developed during the planning phase and in building program infrastructure and capacity to improve early childhood services in their states/jurisdictions/territories, (2) programmatic, policy, and systemic barriers and facilitators that affect program implementation, and (3) quality and effectiveness of the technical assistance (TA) provided to the grantees. The results of the assessment will provide MCHB with timely feedback on the achievements of the SECCS Program and identify potential areas for improvement, which will inform program planning and operational decisions.

As part of the study, all implementation grantees will be asked to complete a Minimum Data Set (MDS) survey, which will primarily include closed-ended questions addressing grantees' progress in achieving the requirements outlined in the implementation grant guidance. The MDS will primarily capture quantitative data on implementation grantees' progress in increasing the State MCH Program's role and leadership in multi-agency early childhood systems development initiatives and building partnerships and system capacity to improve early childhood services in their States.

This survey will supplement and enhance the MCHB's current data collection efforts by providing a quantifiable, standardized, systematic mechanism for collecting information across the funded implementation grantees. For the 2005 cohort of implementation grantees, the MDS will be administered once in 2006 to gather baseline data, and again in the second year of implementation (2007) to gather follow-up data on progress made. For the 2006 cohort of grantees, the MDS will be administered once in 2007.

Respondents: The SECCS implementation grantees (Title V agencies) funded in 2005 and 2006 will be the primary respondents of the instrument. Approximately 60 implementation grantees will respond to the MDS survey. The estimated response burden is as follows:

Cohort | Number of respondents | Responses per respondent | Hours per response | Total hour burden
2005 Cohort | 18 | 2 | 2 | 72
2006 Cohort | 42 | 1 | 2 | 84
Total | 60 | 3 |  | 156

Send comments to Susan G. Queen, Ph.D., HRSA Reports Clearance Officer, Room 10-33, Parklawn Building, 5600 Fishers Lane, Rockville, MD 20857. Written comments should be received within 60 days of this notice.

Dated: February 23, 2006.
Tina M. Cheatham,
Director, Division of Policy Review and Coordination.

[FR Doc. E6-2943 Filed 3-1-06; 8:45 am]

BILLING CODE 4165-15-P